DEPARTMENT OF HEALTH AND HUMAN SERVICES

Administration for Children and Families

Submission for OMB Review; Data Collection for the Next Generation of Enhanced Employment Strategies Project (New Collection)

AGENCY: Office of Planning, Research, and Evaluation, Administration for Children and Families, HHS.

ACTION: Request for public comment.

SUMMARY: The Office of Planning, Research, and Evaluation (OPRE) within the Administration for Children and Families (ACF) is proposing data collection activities conducted for the Next Generation of Enhanced Employment Strategies (NextGen) Project. The objective of this project is to identify and rigorously evaluate innovative interventions designed to promote employment and economic security among low-income individuals with complex challenges to employment. The project will include an experimental impact study, descriptive study, and cost study.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: To further build the evidence around effective strategies for helping low-income individuals find and sustain employment, OPRE is conducting the NextGen Project. This project will identify and test up to 10 innovative, promising employment interventions designed to help individuals facing complex challenges secure a pathway toward economic independence. These challenges may be physical and mental health conditions, a criminal history, or limited work skills and experience.

The project is actively coordinating with the Building Evidence on Employment Strategies for Low-Income Families Project (0970-0537), another OPRE project focused on strengthening ACF's understanding of effective interventions aimed at supporting low-income individuals to find jobs, advance in the labor market, and improve their economic security. Additionally, the project is working closely with the Social Security Administration (SSA) to incorporate a focus on employment-related early interventions for individuals with current or foreseeable disabilities who have limited work history and are potential applicants for Supplemental Security Income (SSI).

The NextGen Project will use a two-phased approach for approval of this proposed information collection activity. In Phase 1 (current request) the research team seeks approval to formally recruit programs, to administer the informed consent form and baseline participant survey, and to collect identifying and contact information for study participants. The project intends for these data collections to be uniform across programs selected for evaluation and it does not anticipate that they will require revisions.

Under Phase 2 of the request, the project will update the information collection request for the remaining instruments to tailor to each program selected for the evaluation, as needed.

The proposed information collection activities cover an experimental impact study, descriptive study, and cost study. Data collection activities for the impact study include: (1) Baseline survey and identifying and contact information data collection, (2) a first follow-up survey, and (3) a second follow-up survey. Data collection activities for the descriptive study include: (1) Program service receipt tracking; (2) staff characteristics survey; (3) program leadership survey; (4) semi-structured program discussion guide (conducted with program leaders, supervisors, partners, staff, and providers); (5) semi-structured employer discussion guide (for those interventions that include an employer component); and (6) in-depth participant interviews. Data collection activities for the cost study include an Excel-based cost workbook.

Respondents: Program staff, program partners, employer staff, and individuals enrolled in the NextGen Project. Program staff and partners may include case managers, health professionals, workshop instructors, job developers, supervisors, managers, and administrators. Employers may include administrators, human resources staff, and worksite supervisors.

Annual Burden Estimates
Instrument | Total number of respondents | Annual number of respondents | Number of responses per respondent | Average burden hours per response | Annual burden hours
PHASE 1
Baseline survey & identifying and contact information—participants | 10,000 | 3,333 | 1 | 0.42 | 1,400
Baseline survey & identifying and contact information—staff | 200 | 67 | 50 | 0.42 | 1,407
Estimated Total Annual Burden Hours, Phase 1: |  |  |  |  | 2,807
PHASE 2 ESTIMATES
First follow-up survey—participants | 8,000 | 2,667 | 1 | 0.83 | 2,214
Second follow-up survey—participants | 8,000 | 2,667 | 1 | 0.83 | 2,214
Service receipt tracking—program staff | 200 | 67 | 250 | 0.08 | 1,340
Staff characteristics survey—program staff | 200 | 67 | 1 | 0.42 | 28
Program leadership survey—program leaders | 50 | 17 | 1 | 0.25 | 4
Semi-structured program discussion guide—program leaders | 40 | 13 | 1 | 1.5 | 20
Semi-structured program discussion guide—program supervisors and partners | 80 | 27 | 1 | 1.0 | 27
Semi-structured program discussion guide—program staff, providers | 80 | 27 | 1 | 0.75 | 20
Semi-structured employer discussion guide—employers | 50 | 17 | 1 | 1.0 | 17
In-depth participant interview guide—participants | 200 | 67 | 1 | 2.0 | 134
Cost workbook—program staff | 40 | 13 | 1 | 32.0 | 416
Estimated Total Annual Burden Hours, Phase 2: |  |  |  |  | 6,434

Authority: Section 413 of the Social Security Act, as amended by the FY 2017 Consolidated Appropriations Act, 2017 (Public Law 115-31).

Mary B. Jones,
ACF/OPRE Certifying Officer.

[FR Doc. 2020-05440 Filed 3-16-20; 8:45 am]

BILLING CODE 4184-09-P